DEPARTMENT OF TRANSPORTATION

Federal Highway Administration

[Docket No. FHWA-2015-0006]

Agency Information Collection Activities: Request for the Update of an Information Collection (Revision)

AGENCY: Federal Highway Administration (FHWA), DOT.

ACTION: Notice and request for comments.

SUMMARY: FHWA invites public comments about our intention to request the Office of Management and Budget's (OMB) approval for a new information collection, which is summarized below under Supplementary Information. We published a Federal Register Notice with a 60-day public comment period on this information collection on August 28, 2014. We are required to publish this notice in the Federal Register by the Paperwork Reduction Act of 1995.

DATES: Please submit comments by May 28, 2015.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2015-0006.

FOR FURTHER INFORMATION CONTACT: Rosemary Jones, 202-366-2042, Office of Real Estate Services, Federal Highway Administration, Department of Transportation, 1200 New Jersey Ave. SE., Washington, DC, between 9 a.m. and 5 p.m., Monday through Friday, except Federal holidays.

SUPPLEMENTARY INFORMATION:

Title: State Right-of-Way Operations Manuals.

Background: It is the responsibility of each State Department of Transportation (State) to acquire, manage and dispose of real property in compliance with the legal requirements of State and Federal laws and regulations. Part of providing assurance of compliance is to describe in a right-of-way procedural (operations) manual the organization, policies and procedures of the State to such an extent that these guide State employees, local acquiring agencies, and contractors who acquire and manage real property that is used for a federally funded transportation project. Procedural manuals assure the FHWA that the requirements of the Uniform Relocation Assistance and Real Property Acquisition Policies Act (Uniform Act) will be met. The State responsibility to prepare and maintain an up-to-date right-of-way procedural manual is set out in 23 CFR 710.201(c). Due to the amending of 23 CFR 710 regulations, a lengthy and in-depth update of each manual will be required. The revisions are prompted by enactment of the Moving Ahead for Progress in the 21st Century Act (MAP-21). The regulation allows States flexibility in determining how to meet the manual requirement. This flexibility allows States to prepare manuals in the format of their choosing, to the level of detail necessitated by State complexities. Each State decides how it will provide service to individuals and businesses affected by Federal or federally-assisted projects, while at the same time reducing the burden of government regulation. States are required to update manuals to reflect changes in Federal requirements for programs administered under title 23 U.S.C. The State manuals may be submitted to FHWA electronically or made available by posting on the State Web site.

Respondents: 52 State Departments of Transportation, including the District of Columbia and Puerto Rico.

Frequency: A one-time collection due to regulatory revisions. Then States update their manuals on an annually basis and certify every 5 years.

FHWA estimates that the State DOTs will use 11,700 hours for completing, revising, updating, and reviewing the manuals. Approximately 52 State entities will update manuals at 225 hours each. Preparing the updates for 52 manuals × 225 hours = 11,700 burden hours.

FHWA estimates that there are two additional DOT modes that have 50 of their large grantees that have Right-of-Way manuals that will need to be updated. It is estimated that both modes together will use a total of 22,500 hours for completing, revising, updating, and reviewing the manuals. Approximately 50 grantees × 2 modes = 100 grantees will update manuals at 225 hours each. 100 manuals × 225 hours = 22,500 burden hours.

FHWA estimates that there are 12 additional federal agencies that will need their grantees to revise their guidance. These agencies have a disparate level of activity and program sizes ranging from large to very small. It is estimated that these grantees will use a total of 2,700 hours for completing, revising, updating, and reviewing their guidance. Approximately 12 grantees will update guidance at 225 hours each. 12 manuals × 225 hours = 2,700 burden hours.

It is estimated a total of 36,900 burden hours will be required for completing, revising, updating, and reviewing manuals/guidance on a one-time basis.

Authority: The Paperwork Reduction Act of 1995; 44 U.S.C. chapter 35, as amended; and 49 CFR 1.48.

Issued On: April 23, 2015.
Michael Howell,
Information Collection Officer.

[FR Doc. 2015-09854 Filed 4-27-15; 8:45 am]

BILLING CODE P